DEPARTMENT OF THE INTERIOR

Fish and Wildlife Service

Notice of Issuance of Permit for Marine Mammals

On May 22, 2001, a notice was published in the Federal Register (66 FR 28195), that an application had been filed with the Fish and Wildlife Service by Lee Anderson, Jr., for a permit (PRT-042060) to import one polar bear taken from the Lancaster Sound population, Canada, for personal use.

Notice is hereby given that on August 15, 2001, as authorized by the provisions of the Marine Mammal Protection Act of 1972, as amended (16 U.S.C. 1361 et seq.) the Fish and Wildlife Service authorized the requested permit subject to certain conditions set forth therein.

On June 15, 2001, a notice was published in the Federal Register (66 FR 32635), that an application had been filed with the Fish and Wildlife Service by Alfred Cito for a permit (PRT-043609) to import one polar bear taken from the Northern Beaufort population, Canada, for personal use.

Notice is hereby given that on August 16, 2001, as authorized by the provisions of the Marine Mammal Protection Act of 1972, as amended (16 U.S.C. 1361 et seq.) the Fish and Wildlife Service authorized the requested permit subject to certain conditions set forth therein.

On May 22, 2001, a notice was published in the Federal Register (66 FR 28195), that an application had been filed with the Fish and Wildlife Service by David Polke for a permit (PRT-042518) to import one polar bear taken from the Lancaster Sound population, Canada, for personal use.

Notice is hereby given that on August 16, 2001, as authorized by the provisions of the Marine Mammal Protection Act of 1972, as amended (16 U.S.C. 1361 et seq.) the Fish and Wildlife Service authorized the requested permit subject to certain conditions set forth therein.

On May 7, 2001, a notice was published in the Federal Register (66 FR 23043), that an application had been filed with the Fish and Wildlife Service by Karl W. Minor for a permit (PRT-041679) to import one polar bear taken from the Lancaster Sound population, Canada, for personal use.

Notice is hereby given that on August 21, 2001, as authorized by the provisions of the Marine Mammal Protection Act of 1972, as amended (16 U.S.C. 1361 et seq.) the Fish and Wildlife Service authorized the requested permit subject to certain conditions set forth therein.

On May 22, 2001, a notice was published in the Federal Register (66 FR 28195), that an application had been filed with the Fish and Wildlife Service by Robert V. Polito for a permit (PRT-041826) to import one polar bear taken from the Northern Beaufort population, Canada, for personal use.

Notice is hereby given that on August 15, 2001, as authorized by the provisions of the Marine Mammal Protection Act of 1972, as amended (16 U.S.C. 1361 et seq.) the Fish and Wildlife Service authorized the requested permit subject to certain conditions set forth therein.

Documents and other information submitted for these applications are available for review by any party who submits a written request to the U.S. Fish and Wildlife Service, Division of Management Authority, 4401 North Fairfax Drive, Room 700, Arlington, Virginia 22203, telephone (703) 358-2104 or fax (703) 358-2281.

Dated: August 31, 2001.
Monica Farris,
Senior Permit Biologist, Branch of Permits, Division of Management Authority.

[FR Doc. 01-22989 Filed 9-12-01; 8:45 am]

BILLING CODE 4310-55-P